DEPARTMENT OF COMMERCE

National Oceanic and Atmospheric Administration

RIN: 0648-XK95

Fisheries of the South Atlantic; South Atlantic Fishery Management Council; Public Meeting

AGENCY: National Marine Fisheries Service (NMFS), National Oceanic and Atmospheric Administration (NOAA), Commerce.

ACTION: Notice of a rescheduled South Atlantic Fishery Management Council's South Atlantic Habitat and Ecosystem Internet Map Server (IMS) Refinement Workshop.

SUMMARY: The South Atlantic Fishery Management Council (Council) has rescheduled a South Atlantic Habitat and Ecosystem IMS Refinement Workshop, in St. Petersburg, FL.

DATES: The workshop has been rescheduled for November 6-7, 2008. See SUPPLEMENTARY INFORMATION for specific dates and times.

ADDRESSES: The workshop will be held at the Florida Fish and Wildlife Research Institute, 100 Eighth Avenue, S.E., St. Petersburg, FL; telephone: (727) 896-8626.

FOR FURTHER INFORMATION CONTACT: Kim Iverson, Public Information Officer, South Atlantic Fishery Management Council, 4055 Faber Place Drive, Suite 201, North Charleston, SC 29405; telephone: (843) 571-4366 or toll free (866) SAFMC-10; fax: (843) 769-4520; email: kim.iverson@safmc.net.

SUPPLEMENTARY INFORMATION: The rescheduled IMS Workshop will take place from 8:30 a.m. - 5 p.m. on November 6, 2008, and from 8:30 a.m. - 12 noon on November 7, 2008.

The Workshop is designed to continue the refinement of the Council's Internet Map Server (IMS) as a support tool for ecosystem-based management. Invited workshop participants will review the present structure of the IMS and future capabilities, identify Geographic Information Systems (GIS) needs supporting management, research, and regional collaborations and provide recommendations. Participants will also identify additional data and GIS for possible inclusion in the IMS and provide recommendations for enhancing and refining the functional capabilities of the IMS to better support local, state, and other regional habitat and ecosystem GIS needs.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305 (c) of the Magnuson-Stevens Act, provided the public has been notified of the Council's intent to take final action to address the emergency.

Special Accommodations

This meeting is physically accessible to people with disabilities. Requests for auxiliary aids should be directed to the council office (see ADDRESSES) 3 days prior to the meetings.

Note: The times and sequence specified in this agenda are subject to change.

Dated: October 2, 2008.
Tracey L. Thompson,
Acting Director, Office of Sustainable Fisheries, National Marine Fisheries Service.

[FR Doc. E8-23628 Filed 10-6ndash;08; 8:45 am]

BILLING CODE 3510-22-S